FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 015702N.

Name: Anndex Consolidators, Inc.

Address: 255 NE 59th Street, Miami, FL 33137.

Date Revoked: January 12, 2006.

Reason: Surrendered license voluntarily.

License Number: 003386F.

Name: Del-Mar International, Inc.

Address: 10333 Northwest Freeway, #214, Houston, TX 77092.

Date Revoked: January 27, 2006.

Reason: Surrendered license voluntarily.

License Number: 015795N.

Name: Eurocargo Express, LLC dba Eurocargo Express.

Address: 5250 West Century Blvd., Suite 620, Los Angeles, CA 90045.

Date Revoked: January 7, 2006.

Reason: Failed to maintain a valid bond.

License Number: 016328N.

Name: Northeast Consolidators, Inc.

Address: 58 Batterymarch Street, Boston, MA 02110.

Date Revoked: December 27, 2005.

Reason: Surrendered license voluntarily.

License Number: 000791F.

Name: Sig M. Glukstad dba Miami International Forwarders dba MIF.

Address: 1801 NW 82nd Avenue, Miami, FL 33126.

Date Revoked: January 5, 2006.

Reason: Failed to maintain a valid bond.

License Number: 003334NF.

Name: Vantage International Forwarding Ltd.

Address: 11222 La Cienega Blvd., Suite 535, Inglewood, CA 90304.

Date Revoked: January 31, 2006.

Reason: Surrendered license voluntarily.

License Number: 003476F.

Name: Victory Van Lines, Inc.

Address: 357 Targee Street, Staten Island, NY 10304.

Date Revoked: December 31, 2005.

Reason: Failed to maintain a valid bond.

Sandra L. Kusumoto,
Director, Bureau of Certification and Licensing.

[FR Doc. E6-2587 Filed 2-22-06; 8:45 am]

BILLING CODE 6730-01-P